DEPARTMENT OF ENERGY

Energy Information Administration

Agency Information Collection Extension With Changes

AGENCY: U.S. Energy Information Administration (EIA), Department of Energy (DOE).

ACTION: Notice and request for comments.

SUMMARY: EIA invites public comment on the proposed three year extension, with changes, to Form EIA-846 Manufacturing Energy Consumption Survey Report as required under the Paperwork Reduction Act of 1995. The report is part of EIA's comprehensive energy data program. Form EIA-846 Manufacturing Energy Consumption Survey Report (Quadrennial) collects information on energy consumption, expenditures, and building characteristics from establishments in the manufacturing sector.

DATES: EIA must receive all comments on this proposed information collection no later than January 4, 2021. If you anticipate any difficulties in submitting your comments by the deadline, contact the person listed in the ADDRESSES section of this notice as soon as possible.

ADDRESSES: Mail comments to Tom Lorenz, U.S Energy Information Administration, EI-22, 1000 Independence Avenue SW, Washington, DC 20585. Submit comments electronically to Thomas.Lorenz@eia.gov.

FOR FURTHER INFORMATION CONTACT: Tom Lorenz by phone at (202) 586-3442, or by email at Thomas.Lorenz@eia.gov. The forms and instructions of EIA-846 Manufacturing Energy Consumption Survey are available on EIA's website at www.eia.gov/survey/.

SUPPLEMENTARY INFORMATION: This information collection request contains:

(1) OMB No.: 1905-0169.

(2) Information Collection Request Title: Manufacturing Energy Consumption Survey (MECS).

(3) Type of Request: Extension with changes.

(4) Purpose: Form EIA-846, is a self-administered sample survey that collects energy consumption and expenditures data from establishments in the manufacturing sector; i.e., North American Industry Classification System (NAICS) sector codes 31-33. The information from this survey is used to publish aggregate statistics on the energy consumption of the manufacturing sector including energy used for fuel and nonfuel purposes. The survey also gathers information on energy-related issues such as energy prices, on-site electricity generation, purchases of electricity from utilities and non-utilities, and fuel switching capabilities. MECS is also used to benchmark EIA's industry forecasting model and update changes in the energy intensity and greenhouse gases data series.

(4a) Proposed Changes to Information Collection: EIA proposes making a change to the survey collection cycle of Form EIA-846. EIA proposes to change the frequency of data collection for the MECS from a quadrennial collection cycle to a triennial collection cycle. The change in frequency is in response to the public and other users need for more timely EIA energy consumption data. Additionally, changing to a triennial collection cycle maximizes the efficiency of EIA's resource allocation.

(5) Annual Estimated Number of Respondents: 15,000.

(6) Annual Estimated Number of Total Responses: 5,000.

(7) Annual Estimated Number of Burden Hours: 46,082.

(8) Annual Estimated Reporting and Recordkeeping Cost Burden: EIA estimates that respondents will have no additional costs associated with the surveys other than burden hours.

Comments are invited whether or not: (a) The proposed collection of information is necessary for the proper performance of agency functions, including whether the information will have a practical utility; (b) EIA's estimate of the burden of the proposed collection of information, including the validity of the methodology and assumptions used, is accurate; (c) EIA can improve the quality, utility, and clarity of the information it will collect; and (d) EIA can minimize the burden of the collection of information on respondents, such as automated collection techniques or other forms of information technology.

Statutory Authority: 15 U.S.C. 772(b) and 42 U.S.C. 7101 et seq.

Signed in Washington, DC, on October 29, 2020.
Samson A. Adeshiyan,
Director, Office of Statistical Methods and Research, U.S. Energy Information Administration.

[FR Doc. 2020-24374 Filed 11-2-20; 8:45 am]

BILLING CODE 6450-01-P